DEPARTMENT OF TRANSPORTATION

Federal Railroad Administration

[Docket No. FRA-2000-7257, Notice No. 95]

Railroad Safety Advisory Committee; Notice of Meeting

AGENCY: Federal Railroad Administration (FRA), Department of Transportation (DOT).

ACTION: Notice of public meeting.

SUMMARY: FRA announces the sixty-sixth meeting of the Railroad Safety Advisory Committee (RSAC or Committee), a Federal Advisory Committee that provides advice and recommendations to FRA on railroad safety matters through a consensus process. The meeting's focus will be potential safety improvements in response to the February 3, 2023, freight train derailment in East Palestine, Ohio.

DATES: The RSAC meeting is scheduled for Thursday, March 21, 2024. The meeting will commence at 9:30 a.m. and will adjourn by 4:30 p.m. (all times eastern daylight savings time). Requests to submit written materials to be reviewed during the meeting must be received by March 11, 2024. Requests for accommodations because of a disability must be received by March 11, 2024.

ADDRESSES: The RSAC meeting will be held at the National Association of Home Builders, located at 1201 15th Street NW, Washington, DC 20005. A final agenda will be posted on the RSAC internet website at https://rsac.fra.dot.gov/ at least one week in advance of the meeting. Please see the RSAC website for additional information on RSAC at https://rsac.fra.dot.gov/.

FOR FURTHER INFORMATION CONTACT: Mr. Kenton Kilgore, RSAC Designated Federal Officer/RSAC Coordinator, FRA Office of Railroad Safety, (202) 365-3724 or kenton.kilgore@dot.gov, for all meeting related inquiries, including requests for alternative formats or services because of a disability, which must be received by March 11, 2024.

SUPPLEMENTARY INFORMATION: Pursuant to section 10(a)(2) of the Federal Advisory Committee Act (Pub. L. 92-463), FRA is publishing notice of a meeting of RSAC. RSAC is composed of 51 voting representatives from 26 member organizations, representing various rail industry perspectives. The diversity of RSAC ensures the requisite range of views and expertise necessary to discharge its responsibilities.

Public Participation: The meeting is open to the public. Attendance is on a first-come, first served basis, and is accessible to individuals with disabilities. DOT and FRA are committed to providing equal access to this meeting for all participants. If you need alternative formats or services because of a disability, please contact Mr. Kenton Kilgore as listed in the FOR FURTHER INFORMATION CONTACT section, and submit your request by March 11, 2024. Any member of the public may submit a written statement to RSAC at any time. To be reviewed by RSAC, a member of the public must submit written materials for receipt by March 11, 2024.

Agenda Summary: This meeting of the RSAC will include updates from the working groups for train braking modernization and wayside detectors, which were formed in response to the February 3, 2023, Norfolk Southern Railway Co. freight train derailment in East Palestine, Ohio. Working groups for Confidential Close Call Reporting (C3RS) and roadway worker protection will also report to RSAC on their activity. A detailed agenda for the meeting will be posted on the RSAC internet website at least one week in advance of the meeting. Copies of the minutes of past meetings, along with general information about RSAC, are also available on the RSAC internet website at https://rsac.fra.dot.gov/.

Issued in Washington, DC.
Amitabha Bose,
Administrator.

[FR Doc. 2024-04582 Filed 3-4-24; 8:45 am]

BILLING CODE 4910-06-P